DEPARTMENT OF COMMERCE

International Trade Administration

[A-549-822]

Certain Frozen Warmwater Shrimp From Thailand: Rescission of Antidumping Duty Administrative Review; 2018-2019

AGENCY: Enforcement and Compliance, International Trade Administration, Department of Commerce.

SUMMARY: The Department of Commerce (Commerce) is rescinding the administrative review of the antidumping duty order on certain frozen warmwater shrimp from Thailand for the period February 1, 2018, through January 31, 2019, based on the timely withdrawal of all requests for review.

DATES: Applicable September 13, 2019.

FOR FURTHER INFORMATION CONTACT: Alice Maldonado, AD/CVD Operations, Office II, Enforcement and Compliance, International Trade Administration, U.S. Department of Commerce, 1401 Constitution Avenue NW, Washington, DC 20230; telephone: (202) 482-4682.

SUPPLEMENTARY INFORMATION:

Background

On February 9, 2019, Commerce published in the Federal Register a notice of opportunity to request an administrative review of the antidumping duty order on certain frozen warmwater shrimp from Thailand for the period February 1, 2018, through January 31, 2019.¹ In February 2019, Commerce received timely requests, in accordance with section 751(a) of the Tariff Act of 1930, as amended (the Act), to conduct an administrative review of this antidumping duty order from the Ad Hoc Shrimp Trade Action Committee (the petitioner), the American Shrimp Processors Association (ASPA), and certain individual companies.² Based upon these requests, on May 2, 2019, in accordance with section 751(a) of the Act, Commerce published in the Federal Register a notice of initiation listing 170 companies for which Commerce received timely requests for review.³

¹ See Antidumping or Countervailing Duty Order, Finding, or Suspended Investigation; Opportunity to Request Administrative Review, 84 FR 2816 (February 8, 2019).

² See Petitioner's Letter, “Certain Frozen Warmwater Shrimp from Thailand: Request for Administrative Review,” dated February 26, 2019; ASPA's Letter, “Administrative Review of the Antidumping Duty Order Covering Frozen Warmwater Shrimp from Thailand (POR 14: 01/01/18-01/31/19): American Shrimp Processors Association's Request for an Administrative Review,” dated February 27, 2019; Good Luck Product Co., Ltd.'s (Good Luck's) Letter, “Certain Frozen Warmwater Shrimp from Thailand; Request for Review,” dated February 21, 2019; Thai Royal Frozen Food Co., Ltd.'s (Thai Royal's) Letter, “Frozen Warmwater Shrimp from Thailand: Request for Administrative Review and Request for Voluntary Treatment,” dated February 25, 2019; and Thai Union Group Public Co., Ltd.'s, Thai Union Seafood Co., Ltd.'s, Pakfood Public Company Limited's, Asia Pacific (Thailand) Co., Ltd.'s, Chaophraya Cold Storage Co., Ltd.'s, Okeanos Co., Ltd.'s, Okeanos Food Co., Ltd's and Takzin Samut Co., Ltd.'s (collectively, Thai Union/Pakfood's) Letter, “Frozen Warmwater Shrimp from Thailand: Request for Administrative Review and Request for Voluntary Treatment,” dated February 25, 2019.

³ See Initiation of Antidumping and Countervailing Duty Administrative Reviews, 84 FR 18777 (May 2, 2019).

In July 2018, all parties timely withdrew their requests for an administrative review.⁴

⁴ See Petitioner's Letter, “Certain Frozen Warmwater Shrimp from Thailand: Domestic Producers' Withdrawal of Review Requests,” dated July 29, 2019; ASPA's Letter, “Certain Frozen Warmwater Shrimp from Thailand: American Processors Association's Withdrawal of Review Requests,” dated July 29, 2019; Thai Union/Pakfood's and Thai Royal's Letter, “Frozen Warmwater Shrimp from Thailand: Withdrawal of Requests for Administrative Review,” dated July 26, 2019; and Good Luck's Letter, “Certain Frozen Warmwater Shrimp from Thailand: Good Luck Product Co., Ltd. Withdrawal of Request for Review,” dated July 29, 2019.

Rescission of Review

Pursuant to 19 CFR 351.213(d)(1), the Secretary will rescind an administrative review, in whole or in part, if a party who requested the review withdraws the request within 90 days of the date of publication of notice of initiation of the requested review. As noted above, all parties withdrew their requests for review by the 90-day deadline. Accordingly, we are rescinding the administrative review of the antidumping duty order on certain frozen warmwater shrimp from Thailand covering the period February 1, 2018, through January 31, 2019, in its entirety.

Assessment

Commerce will instruct U.S. Customs and Border Protection to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions to CBP 15 days after publication of this notice in the Federal Register.

Notification to Importers

This notice serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Administrative Protective Order

This notice serves as the only reminder to parties subject to administrative protective order (APO) of their responsibility concerning the disposition of proprietary information disclosed under APO in accordance with 19 CFR 351.305(a)(3), which continues to govern business proprietary information. Timely written notification of the return/destruction of APO materials or conversion to judicial protective order is hereby requested. Failure to comply with the regulations and terms of an APO is a violation which is a sanctionable violation.

Notification to Interested Parties

This notice is issued and published in accordance with section 751(a)(1) and 751(i)(1) of the Act.

Dated: September 9, 2019.
James Maeder,
Deputy Assistant Secretary for Antidumping and Countervailing Duty Operations.

[FR Doc. 2019-19865 Filed 9-12-19; 8:45 am]

BILLING CODE 3510-DS-P